DEPARTMENT OF ENERGY

Bonneville Power Administration

[BPA File No. Klickitat Hatchery Upgrades (DOE/EIS 0535)]

Bonneville Power Administration Klickitat Hatchery Upgrades Environmental Impact Statement (EIS) Termination

AGENCY: Bonneville Power Administration (BPA), Department of Energy (DOE).

ACTION: Notice of intent to terminate the preparation of an Environmental Impact Statement (EIS) and intent to prepare an Environmental Assessment (EA).

SUMMARY: This notice advises the public that BPA is terminating the preparation of the Klickitat Hatchery Upgrades EIS and instead will prepare an EA. This EIS would have considered BPA's decision whether to fund the Confederated Tribes and Bands of the Yakama Nation's (Yakama Nation) proposal to upgrade facilities at the Klickitat Hatchery to facilitate a possible increase in production of spring Chinook salmon in the Klickitat River Basin. The change in National Environmental Policy Act (NEPA) analysis is due to a refinement of project scope and design that would minimize resource effects and extensive agency coordination that has shown existing permits are sufficient to address the proposed changes.

FOR FURTHER INFORMATION CONTACT: Carolyn Sharp, Environmental Protection Specialist, Bonneville Power Administration—ECF-4, P.O. Box 3621, Portland, Oregon 97208-3621; toll-free telephone 1-800-622-4519; direct telephone 503-230-5206; or email casharp@bpa.gov or Mary Todd Haight, Project Manager, Bonneville Power Administration—EWM-4, P.O. Box 3621, Portland, Oregon, 97208-3621; toll-free telephone number 1-800-622-4519; email mthaight@bpa.gov. Additional information can be found at the project website: www.bpa.gov/nepa/klickitat-hatchery-upgrades.

SUPPLEMENTARY INFORMATION: A Notice of Intent (NOI) was published in the Federal Register on October 6, 2017 (82 FR 46804), to begin preparing an EIS for the Klickitat Hatchery Upgrades. The facility improvements would allow the Yakama Nation to increase spring Chinook production from 600,000 to 800,000 smolts, and move from a segregated to an integrated spring Chinook production program. Other cost-dependent options include additional on-site housing for hatchery facility staff and upgrades to the hatchery administrative building.

At the time of issuance, the 2017 NOI identified the National Marine Fisheries Service (NMFS) as a cooperating agency for the project. Since then, NMFS has determined their Mitchell Act Record of Decision (ROD) and Biological Opinion (BO) adequately cover their NEPA and Endangered Species Act (ESA) obligations for increased operations and maintenance funding for the increase in spring Chinook production and integrated programming at the Klickitat Hatchery. The U.S. Environmental Protection Agency (USEPA) had also elected to be a cooperating agency based on an assumption that the proposed project would be determined to be a new source under 40 CFR 122.2 and 122.29. After reviewing more fully developed project designs, USEPA was able to determine that the proposed action would no longer meet the definition of a new source under 40 CFR 122.29, and USEPA thereby rescinded their status as cooperating agency on June 2, 2022. The U.S. Army Corps of Engineers also issued a determination on August 5, 2022, that no permit would be required under Section 404 of the Clean Water Act and Section 10 of the Rivers and Harbors Act.

These efforts to minimize resource effects and coordination with permitting agencies to confirm that existing permits would address the proposed changes have allowed BPA to determine that an EA and FONSI are more appropriate for this project. BPA will complete an EA, consistent with NEPA and the Council on Environmental Quality's and the Department of Energy's NEPA implementing regulations to decide whether to fund the proposed action. The document will be used by BPA as the funding entity, Yakama Nation as operator of the facility that is located on the Yakama Nation Reservation, and Washington Department of Fish and Wildlife as current landowner and co-manager of the fishery resources in the Klickitat River basin for their respective environmental compliance needs.

The proposal would include funding capital improvements at the Klickitat Hatchery that would enable the Yakama Nation to implement a multi-year transition from a segregated production program of 600,000 spring Chinook smolts to an integrated spring Chinook production program totaling 800,000 smolts. All fish production (spring and fall Chinook and coho salmon) operations and facility maintenance at the hatchery has been funded through NMFS under the Mitchell Act since the hatchery was built in 1954. BPA is not proposing to fund fish production or to assume responsibility for any Mitchell Act funding for the Klickitat Hatchery. BPA funds would be limited to the proposed capital improvements to support spring Chinook production.

To facilitate this transition, capital improvements to the existing Klickitat Hatchery facility would include:

• Upgraded water supply and discharge systems

• Rehabilitation and consolidation of spring water intake and pipeline

• Rehabilitation of river water intake pumps and filtration system

• Replacement of the existing pollution abatement settling pond with a new in-line system

• Updates to the existing fish ladder

• New adult holding raceways and spawning infrastructure

• Installation of a new circular tank aquaculture system to support spring Chinook integrated programming

• Addition of a chemical storage building

• Upgrades to the hatchery security and alarm systems

Optional, cost-dependent upgrades include:

• Updates to the existing hatchery administrative space

• Construction of two on-site residences for hatchery staff

• Installation of predator control netting over the spring Chinook raceways

For the reasons previously explained in this notice, the EIS is being terminated in accordance with 40 CFR 1506.6 and 40 CFR 1506.10.

Signing Authority: This document of the Department of Energy was signed on February 9, 2023 by John Hairston, Administrator and Chief Executive Officer of the Bonneville Power Administration, pursuant to delegated authority from the Secretary of Energy. That document with the original signature and date is maintained by the Department of Energy. For administrative purposes only, and in compliance with requirements of the Office of the Federal Register, the undersigned Department of Energy Federal Register Liaison Officer has been authorized to sign and submit the document in electronic format for publication, as an official document of the Department of Energy. This administrative process in no way alters the legal effect of this document upon publication in the Federal Register.

Signed in Washington, DC, on February 21, 2023.
Treena V. Garrett,
Federal Register Liaison Officer, U.S. Department of Energy.

[FR Doc. 2023-03870 Filed 2-23-23; 8:45 am]

BILLING CODE 6450-01-P